DEPARTMENT OF TRANSPORTATION

Federal Transit Administration

The National Center for Mobility Management Under FTA's National Research Program

AGENCY: Federal Transit Administration (FTA), DOT.

ACTION: Notice.

SUMMARY: Federal Transit Administration (FTA), as the primary staff agency to the Federal Interagency Coordinating Council on Access and Mobility (CCAM), is releasing an Announcement of Funding Opportunities (Announcement) to promote mobility management—a customer-focused approach to transportation service delivery. FTA, under its National Research Program, plans to fund a National Center for Mobility Management (NCMM) which will carry-out activities to further mobility management and to improve and enhance the coordination of Federal resources for human service transportation.

FOR FURTHER INFORMATION CONTACT: For general program information, as well as proposal-specific questions, please send an email to FTA.UWR@dot.gov or contact Pamela Brown at (202) 493-2503. A TDD is available at 1-800-877-8339 (TDD/FIRS).

I. Overview

In recognition of the fundamental importance of human service transportation and the continuing need to enhance coordination, Executive Order 13330 (February 24, 2004) was issued on Human Service Transportation Coordination, establishing the Federal Interagency Coordinating Council on Access and Mobility (CCAM). The Executive Order directed multiple Federal departments and agencies to work together to ensure that transportation services are seamless, comprehensive and accessible.

The Secretaries from the Departments of Transportation (DOT), Health and Human Services, Labor, Education, Interior, Housing and Urban Development, Agriculture, and Veterans Affairs; the Commissioner of the Social Security Administration; the Attorney General; and the Chairperson of the National Council on Disability are members of the CCAM.

Specifically, the CCAM is tasked with seeking ways to simplify access to transportation services for persons with disabilities, persons with lower incomes, older adults, and other transportation disadvantaged populations. The CCAM launched United We Ride (UWR), a national initiative on human service transportation coordination, staffed by FTA and other CCAM partner agencies.

The Safe, Accountable, Flexible, Efficient Transportation Equity Act: A Legacy for Users (SAFETEA-LU) authorized funding for the management of a program to improve and enhance the coordination of Federal resources for human services transportation with those of the Department of Transportation. The major goal of the program was to assist states and local communities in the provision and expansion of coordinated human service transportation for older adults, people with disabilities, and individuals with lower incomes.

Building upon past efforts, FTA seeks to expand the use of mobility management strategies and to improve human service transportation coordination through a new National Center for Mobility Management by implementing the primary goal and the following objectives:

Goal: Enhance Transportation Coordination and Mobility Management in Federal, State, and Local Transportation Programs:

Objective 1: Supporting and improving local- and state-coordinated transportation planning processes to improve coordination of Federally-funded human service transportation.

Objective 2: Encouraging the implementation of mobility management infrastructure and strategies in relevant industries, including but not limited to the transit, workforce, medical, veteran, and human service industries.

Objective 3: Promoting and assisting in the development of One Call/One Click strategies that conveniently connect customers to transportation services and funding options.

Objective 4: Supporting the activities and initiatives of the CCAM, its workgroups, and member agencies that improve Federal coordination.

Objective 5: Carrying out targeted technical assistance, research or demonstration, including demonstration grant programs, as requested by CCAM and its members and supported by requisite funding availability.

FTA intends to fund the NCMM at $1,800,000 for the first year. FTA may extend funding for this Center for up to five (5) years; however, subsequent funding will depend upon: (1) Decisions and program priorities established by the Secretary of Transportation related to the implementation of provisions set forth in Section 20012, Technical Assistance and Standards, of the Moving Ahead for Progress in the 21st Century Act (MAP-21); (2) future appropriations; and (3) annual performance reviews. Furthermore, additional funding may be provided to the NCMM by other CCAM members to support mobility management and coordinated transportation priorities.

The Announcement includes the Request for Proposals (RFP) which describes the priorities established for the NCMM, as well as the application process and criteria upon which proposals will be evaluated. The full Announcement is available on the FTA's Web site at: http://www.fta.dot.gov/grants/13077.html and on the United We Ride Web site at: http://www.unitedweride.gov. The funding opportunity RFP is posted in the FIND module of the government-wide electronic grants Web site at http://www.grants.gov.

Issued in Washington, DC, this 6th day of August, 2012.
Peter Rogoff,
Administrator.

[FR Doc. 2012-19573 Filed 8-9-12; 8:45 am]

BILLING CODE P